DEPARTMENT OF ENERGY

10 CFR Parts 429 and 431

[Docket No. EERE-2010-BT-TP-0044]

RIN 1904-AC37

Energy Conservation Program: Test Procedures for High-Intensity Discharge Lamps; Withdrawal

AGENCY: Office of Energy Efficiency and Renewable Energy, Department of Energy.

ACTION: Notice of proposed rulemaking; withdrawal.

SUMMARY: The U.S. Department of Energy (DOE) withdraws its proposal for establishing test procedures for high-intensity discharge (HID) lamps in light of the fact that DOE published a final determination on December 9, 2015 concluding that energy conservation standards for HID lamps are not justified, thereby negating the need for an HID test procedure.

DATES: The proposed rule published on December 15, 2011 (76 FR 77914) and updated on May 22, 2014 (79 FR 29632) is withdrawn as of May 19, 2016.

FOR FURTHER INFORMATION CONTACT:

Ms. Lucy deButts, U.S. Department of Energy, Office of Energy Efficiency and Renewable Energy, Building Technologies Office, EE-2J, 1000 Independence Avenue SW., Washington, DC 20585-0121. Telephone: (202) 287-1604. Email: high_intensity_dischage_lamps@ee.doe.gov.

Ms. Francine Pinto, U.S. Department of Energy, Office of the General Counsel, GC-33, 1000 Independence Avenue SW., Washington, DC 20585-0121. Telephone: (703) 887-7971. Email: Francine.Pinto@hq.doe.gov.

SUPPLEMENTARY INFORMATION:

I. Authority

Title III of EPCA (42 U.S.C. 6291, et seq.), Public Law 94-163, sets forth a variety of provisions designed to improve energy efficiency. Part C of title III, which for editorial reasons was re-designated as Part A-1 upon incorporation into the U.S. Code (42 U.S.C. 6311-6317), establishes the “Energy Conservation Program for Certain Industrial Equipment,” a program covering certain industrial equipment, which include the HID lamps that are the subject of this notice. Pursuant to EPCA, DOE must prescribe test procedures and energy conservation standards for HID lamps for which DOE has determined that standards would be technologically feasible, economically justified, and would result in a significant conservation of energy. (42 U.S.C. 6317(a)(1))

II. Discussion

On December 15, 2011, DOE published a Notice of Proposed rulemaking to establish test procedures for HID lamps under the Energy Policy and Conservation Act of 1975 (EPCA). 76 FR 77914. Subsequently, on May 22, 2014, DOE published a Supplemental Notice of Proposed rulemaking, updating the earlier NOPR test procedure. 79 FR 29632.

Today, DOE is withdrawing its test procedure proposal because on December 9, 2015 it published a final determination that energy conservation standards for HID lamps are not justified, consequently negating the need for an HID test procedure. 80 FR 76355.

III. Approval of the Office of the Secretary

The Secretary of Energy has approved publication of this withdrawal.

List of Subjects

10 CFR Part 429

Administrative practice and procedure, Buildings and facilities, Business and industry, Energy conservation, Grants programs—energy, Housing, Reporting and recordkeeping requirements, Technical assistance.

10 CFR Part 431

Administrative practice and procedure, Confidential business information, Energy conservation, Household appliances, Imports, Incorporation by reference, Reporting and recordkeeping requirements, Small business.

Issued in Washington, DC, on May 13, 2016.
Kathleen B. Hogan,
Deputy Assistant Secretary for Energy Efficiency, Energy Efficiency and Renewable Energy.

[FR Doc. 2016-11912 Filed 5-18-16; 8:45 a.m.]

BILLING CODE 6450-01-P